DEPARTMENT OF DEFENSE

Office of the Secretary

Defense Science Board

AGENCY: Department of Defense.

ACTION: Notice of advisory committee meeting date change.

SUMMARY: On Thursday, February 22, 2001 (66 FR 11158), the Department of Defense announced a closed meeting of the Defense Science Board (DSB) Task Force on Precision Targeting. This meeting has been rescheduled from July 26-27, 2001 to July 25-26, 2001. The meeting will be held at SAIC, 4001 N. Fairfax Drive, Arlington, VA.

Dated: June 21, 2001.
L.M. Bynum,
Alternate OSD Federal Register Liaison Officer, Department of Defense.

[FR Doc. 01-16031 Filed 6-26-01; 8:45 am]

BILLING CODE 5001-08-M